Proclamation 10584 of May 19, 2023

World Trade Week, 2023

By the President of the United States of America

A Proclamation

My Administration is committed to building an economy from the bottom up and middle out, ensuring every worker gets a fair shot at the American Dream. Global trade is a key part of making that dream a reality. By expanding markets around the world for American businesses and crafting rules for fair competition, we can empower our workers, protect our planet, and promote inclusive prosperity. During World Trade Week, we recommit to writing a new story on trade—a worker-centered story—where everyone has dignity and opportunity and no one is left behind.

This new story begins with investing in America. For decades, the middle class and thriving towns across America were hollowed out as good-paying jobs moved overseas and factories at home closed down. My Administration is changing that. Through our blue-collar blueprint for America, we have created more than 12 million jobs and brought unemployment down to its lowest rate in more than 50 years. Across the country, we are witnessing a manufacturing boom, and factories are coming back to America to produce the semiconductors that power everything from cellphones and automobiles to the technology that will power our clean energy future. In every State, construction is underway to rebuild our roads, bridges, ports, airports, and water systems.

These investments in our country will help us maintain our innovative edge, boost our industrial capacity, and ensure we have the best-trained workforce—making us a stronger, more capable partner for our allies and all those who share our vision for a more equitable economic future around the world. That is why 13 economies in the Indo-Pacific stepped up to join the United States in strengthening labor standards, incentivizing the use of clean energy, and protecting our economies from corruption. Together with 11 of our neighbors in the Western Hemisphere, we are working to drive inclusive regional economic growth and create good-quality jobs. We are working to increase trade with Kenya and Taiwan—two vibrant partners in critical parts of the world. And we are working closely with international partners to build more resilient and reliable supply chains for critical minerals used in products like electric vehicle batteries.

We are also deepening our cooperation with the European Union—negotiating the world's first emission-based trade arrangement on steel and aluminum to reward fair trade, promote clean manufacturing, and generate good jobs on both sides of the Atlantic. At the same time, the United States and the European Union are collectively addressing unfair competition from non-market economies and authoritarian regimes and working to eliminate forced labor from global supply chains.

We know that, with every new commitment we make, we must also enforce existing ones to build trust and confidence in trade. That is why my Administration has been laser-focused on working through the United States-Mexico-Canada Agreement to uphold our commitment to workers' rights and environmental protections and to ensure that our dairy farmers and businesses in the energy and agricultural biotechnology sectors are treated fairly. We also remain committed to the World Trade Organization and to working with nations around the world to help the institution more effectively promote fair competition, transparency, and the rule of law while fostering supply chain resiliency through improved border procedures and addressing challenges like the climate crisis.

At home, my Administration is incorporating diverse voices into our policymaking—from small businesses and entrepreneurs to manufacturers, farmers, ranchers, fishers, and producers—to ensure trade works for more sectors of the American economy. We are taking steps to expand the benefits of trade to historically underrepresented and underserved communities, including making it easier for small- and medium-sized enterprises to access loans and loan guarantees offered by the Export-Import Bank of the United States, and working to double the number of businesses receiving export assistance from the Department of Commerce.

In America, we believe that everyone deserves a shot at prosperity. My Administration will continue to make sure trade is a force for good for all Americans—lifting up workers and businesses, forging lasting partnerships around the globe, and building a better and brighter tomorrow for us all.

NOW, THEREFORE, I, JOSEPH R. BIDEN JR., President of the United States of America, by virtue of the authority vested in me by the Constitution and the laws of the United States, do hereby proclaim May 21 through May 27, 2023, as World Trade Week. I call upon all Americans to observe this week and to celebrate with appropriate programs, ceremonies, and activities.

IN WITNESS WHEREOF, I have hereunto set my hand this nineteenth day of May, in the year of our Lord two thousand twenty-three, and of the Independence of the United States of America the two hundred and forty-seventh.

[FR Doc. 2023-11206

Filed 5-23-23; 8:45 am]

Billing code 3395-F3-P